DEPARTMENT OF ENERGY

Federal Energy Regulatory Commission

[Docket No. RP03-347-001]

Chandeleur Pipe Line Company; Notice of Compliance Filing

July 22, 2003.

Take notice that on July 16, 2003, Chandeleur Pipe Line Company (Chandeleur) tendered for filing as part of its FERC Gas Tariff, Second Revised Volume No. 1, the following tariff sheets, to become effective July 1, 2003:

Substitute Original Sheet No. 68A.

Substitute Eighth Revised Sheet No. 69.

Substitute Seventh Revised Sheet No. 69A.

Substitute First Revised Sheet No. 69A.01.

Substitute First Revised Sheet No. 69A.02.

Substitute Third Revised Sheet No. 69B.

Chandeleur asserts that the purpose of this filing is to comply with the Commission's order issued June 30, 2003, in Docket No. RP03-347-000.

Any person desiring to protest said filing should file a protest with the Federal Energy Regulatory Commission, 888 First Street, NE., Washington, DC 20426, in accordance with ¶385.211 of the Commission's Rules and Regulations. All such protests must be filed in accordance with ¶154.210 of the Commission's Regulations. Protests will be considered by the Commission in determining the appropriate action to be taken, but will not serve to make protestants parties to the proceedings. This filing is available for review at the Commission in the Public Reference Room or may be viewed on the Commission's Web site at http://www.ferc.gov using the “FERRIS” link. Enter the docket number excluding the last three digits in the docket number field to access the document. For assistance, please contact FERC Online Support at FERCOnlineSupport@ferc.gov or toll-free at (866) 208-3676, or TTY, contact (202) 502-8659. The Commission strongly encourages electronic filings. See 18 CFR 385.2001(a)(1)(iii) and the instructions on the Commission's Web site under the “e-Filing” link.

Protest Date: July 28, 2003.

Magalie R. Salas,
Secretary.

[FR Doc. 03-19236 Filed 7-28-03; 8:45 am]

BILLING CODE 6717-01-P